DEPARTMENT OF THE INTERIOR

Bureau of Land Management

[F-14866-A, F-14866-A2; AK-965-1410-KC-P]

Alaska Native Claims Selection

AGENCY: Bureau of Land Management, Interior.

ACTION: Notice of decision approving lands for conveyance.

SUMMARY: As required by 43 CFR 2650.7(d), notice is hereby given that an appealable decision approving lands for conveyance pursuant to the Alaska Native Claims Settlement Act will be issued to Sea Lion Corporation. The lands are in the vicinity of Hooper Bay, Alaska, and are located in:

Seward Meridian, Alaska

T. 21 N., R. 83 W.,

Sec. 3;

Secs. 6 to 10, inclusive;

Secs. 15 to 18, inclusive.

Containing approximately 4,775 acres.

T. 22 N., R. 83 W.,

Secs. 6 and 7;

Secs. 11 to 14, inclusive;

Secs. 23, 24, and 26;

Secs. 27 and 34.

Containing approximately 6,393 acres.

T. 21 N., R. 84 W.,

Secs. 1 to 5, inclusive;

Secs. 7 to 15, inclusive;

Sec. 24.

Containing approximately 7,960 acres.

T. 22 N., R. 84 W.,

Secs. 1 and 2;

Secs. 11 and 12;

Secs. 14, 18, 19, and 23;

Secs. 26 to 30, inclusive;

Secs. 32 to 36, inclusive.

Containing approximately 9,520 acres.

T. 20 N., R. 85 W.,

Secs. 5 to 9, inclusive;

Secs. 16 and 17;

Secs. 20 and 21.

Containing approximately 4,866 acres.

T. 21 N., R. 85 W.,

Sec. 1;

Secs. 8 to 12, inclusive;

Secs. 16 and 17;

Secs. 20 and 21;

Secs. 27, 28, and 29;

Secs. 33, 34, and 35.

Containing approximately 8,452 acres.

T. 22 N., R. 85 W.,

Secs. 11, 13, and 14;

Secs. 23 to 26, inclusive.

Containing approximately 3,732 acres.

T. 20 N., R. 86 W.,

Secs. 1, 2, and 12.

Containing approximately 1,699 acres.

T. 21 N., R. 86 W.,

Secs. 1, 2, and 3;

Secs. 7 to 12, inclusive;

Secs. 15 to 23, inclusive;

Secs. 26 to 35, inclusive.

Containing approximately 13,703 acres.

T. 18 N., R. 91 W.,

Secs. 13 to 16, inclusive;

Secs. 22 to 27, inclusive;

Secs. 34, 35, and 36.

Containing approximately 7,012 acres.

T. 15 N., R. 92 W.,

Secs. 4 to 7, inclusive.

Containing approximately 2,469 acres.

T. 16 N., R. 92 W.,

Secs. 3, 4, and 10;

Secs. 15, 21, 22, and 27;

Secs. 28 to 34, inclusive.

Containing approximately 4,185 acres.

T. 15 N., R. 93 W.,

Secs. 1 and 12.

Containing approximately 849 acres.

T. 16 N., R. 93 W.,

Sec. 36.

Containing approximately 52 acres.

Total aggregate of approximately 75,667 acres.

A portion of the subsurface estate in these lands will be conveyed to Calista Corporation when the surface estate is conveyed to Sea Lion Corporation. The remaining lands lie within Clarence Rhode National Wildlife Range, established January 20, 1969. The subsurface estate in the refuge lands will be reserved to the United States at the time of conveyance. Notice of the decision will also be published four times in the Tundra Drums.

DATES: The time limits for filing an appeal are:

1. Any party claiming a property interest which is adversely affected by the decision shall have until January 21, 2009 to file an appeal.

2. Parties receiving service of the decision by certified mail shall have 30 days from the date of receipt to file an appeal.

Parties who do not file an appeal in accordance with the requirements of 43 CFR Part 4, Subpart E, shall be deemed to have waived their rights.

ADDRESSES: A copy of the decision may be obtained from: Bureau of Land Management, Alaska State Office, 222 West Seventh Avenue, #13, Anchorage, Alaska 99513-7504.

FOR FURTHER INFORMATION CONTACT: The Bureau of Land Management by phone at 907-271-5960, or by e-mail at ak.blm.conveyance@ak.blm.gov. Persons who use a telecommunication device (TTD) may call the Federal Information Relay Service (FIRS) at 1-800-877-8330, 24 hours a day, seven days a week, to contact the Bureau of Land Management.

Robert Childers,
Land Law Examiner, Land Transfer Adjudication II.

[FR Doc. E8-30346 Filed 12-19-08; 8:45 am]

BILLING CODE 4310-JA-P